DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: This action was issued on December 30, 2025. See SUPPLEMENTARY INFORMATION for relevant dates.

FOR FURTHER INFORMATION CONTACT: OFAC: Associate Director for Global Targeting, 202-622-2420; Assistant Director for Licensing, 202-622-2480; Assistant Director for Sanctions Compliance, 202-622-2490 or https://ofac.treasury.gov/contact-ofac.

SUPPLEMENTARY INFORMATION:

Electronic Availability

The SDN List and additional information concerning OFAC sanctions programs are available on OFAC's website: https://ofac.treasury.gov.

Notice of OFAC Action

On December 30, 2025, OFAC determined that the property and interests in property subject to U.S. jurisdiction of the following persons are blocked under the relevant sanctions authorities listed below.

Individuals

1. GHAFFARI, Mehdi, Tehran, Iran; DOB 21 Sep 1977; nationality Iran; Additional Sanctions Information—Subject to Secondary Sanctions; Gender Male; National ID No. 0558674577 (Iran) (individual) [NPWMD] [IFSR] (Linked To: KAVOSHGARAN ASMAN MOJ GHADIR COMPANY).

Designated pursuant to section 1(a)(iv) of Executive Order (E.O.) 13382 of June 28, 2005, “Blocking Property of Weapons of Mass Destruction Proliferators and Their Supporters,” 70 FR 38567, 3 CFR, 2005 Comp., p. 170 (E.O. 13382), for being owned or controlled by, or acting or purporting to act for or on behalf of, directly or indirectly, KAVOSHGARAN ASMAN MOJ GHADIR COMPANY, a person whose property and interests in property are blocked pursuant to E.O. 13382.

2. QAYSARI, Erfan (a.k.a. GHEISARI, Erfan), Tehran, Iran; DOB 18 Sep 1978; nationality Iran; Additional Sanctions Information—Subject to Secondary Sanctions; Gender Male; National ID No. 0069298262 (Iran) (individual) [NPWMD] [IFSR] (Linked To: KAVOSHGARAN ASMAN MOJ GHADIR COMPANY).

Designated pursuant to section 1(a)(iv) of E.O. 13382 for being owned or controlled by, or acting or purporting to act for or on behalf of, directly or indirectly, KAVOSHGARAN ASMAN MOJ GHADIR COMPANY, a person whose property and interests in property are blocked pursuant to E.O. 13382.

3. REZAEI, Bahram (a.k.a. RIZAI, Bahram), Tehran, Iran; DOB 24 Feb 1982; nationality Iran; Additional Sanctions Information—Subject to Secondary Sanctions; Gender Male; National ID No. 0451423968 (Iran) (individual) [NPWMD] [IFSR] (Linked To: FANAVARI ELECTRO MOJ MOBIN COMPANY).

Designated pursuant to section 1(a)(iv) of E.O. 13382 for being owned or controlled by, or acting or purporting to act for or on behalf of, directly or indirectly, FANAVARI ELECTRO MOJ MOBIN COMPANY, a person whose property and interests in property are blocked pursuant to E.O. 13382.

4. ROSTAMI SANI, Mostafa (a.k.a. ROSTAMI THANI, Mustafa), Iran; DOB 27 Apr 1974; POB Tehran, Iran; nationality Iran; Additional Sanctions Information—Subject to Secondary Sanctions; Gender Male; National ID No. 0066637007 (Iran) (individual) [NPWMD] [IFSR] (Linked To: PARCHIN CHEMICAL INDUSTRIES).

Designated pursuant to section 1(a)(iii) of E.O. 13382 for having provided, or attempted to provide, financial, material, technological or other support for, or goods or services in support of, PARCHIN CHEMICAL INDUSTRIES, a person whose property and interests in property are blocked pursuant to E.O. 13382.

5. URDANETA GONZALEZ, Jose Jesus, Venezuela; DOB 16 Jan 1971; nationality Venezuela; Gender Male; Tax ID No. V9658315 (Venezuela) (individual) [IRAN-CON-ARMS-E.O.] (Linked To: EMPRESA AERONAUTICA NACIONAL SA).

Designated pursuant to section 1(a)(v) of Executive Order 13949 of September 21, 2020, “Blocking Property of Certain Persons With Respect to the Conventional Arms Activities of Iran,” 85 FR 60043 (“E.O. 13949”), for being owned or controlled by, or having acted or purported to act for or on behalf of, directly or indirectly, EMPRESA AERONAUTICA NACIONAL SA, a person whose property and interests in property are blocked pursuant to E.O. 13949.

6. ZAREPOUR TARAGHI, Reza (a.k.a. ZARE PORTORGHI, Reza; a.k.a. ZAREPUR TORGHI, Reza), Iran; DOB 28 Jul 1985; POB Mashhad, Iran; nationality Iran; Additional Sanctions Information—Subject to Secondary Sanctions; Gender Male; National ID No. 0944825303 (Iran) (individual) [NPWMD] [IFSR] (Linked To: PARDISAN REZVAN SHARGH INTERNATIONAL PRIVATE JOINT STOCK COMPANY).

Designated pursuant to section 1(a)(iv) of E.O. 13382 for being owned or controlled by, or acting or purporting to act for or on behalf of, directly or indirectly, PARDISAN REZVAN SHARGH INTERNATIONAL PRIVATE JOINT STOCK COMPANY, a person whose property and interests in property are blocked pursuant to E.O. 13382.

Entities

1. EMPRESA AERONAUTICA NACIONAL SA (a.k.a. “EANSA”), Av. Principal Paramaconi, Local Hangar 03, Sector Base Aerea Libertador, Palo Negro, Aragua, Venezuela; Organization Established Date 05 Mar 2020; Tax ID No. G200162368 (Venezuela) [IRAN-CON-ARMS-E.O.] (Linked To: QODS AVIATION INDUSTRIES).

Designated pursuant to section 1(a)(iv) of E.O. 13949 for having materially assisted, sponsored, or provided financial, material, or technological support for, or goods or services to or in support of, QODS AVIATION INDUSTRIES, a person whose property and interests in property are blocked pursuant to E.O. 13949.

2. FANAVARI ELECTRO MOJ MOBIN COMPANY (a.k.a. ELECTRO WAVE TECHNOLOGY COMPANY; a.k.a. FANAVARI ELECTROMOJ MOBIN CO LLC), First Floor, Number 7, Ghaem Street, Eighteen Meter, East Ghaem 1st Street, Railway Town, Tehran, Tehran 1494953881, Iran; Additional Sanctions Information—Subject to Secondary Sanctions; Organization Established Date 12 Sep 2011; National ID No. 10320647554 (Iran); Registration Number 412630 (Iran) [NPWMD] [IFSR] (Linked To: RAYAN FAN KAV ANDISH CO).

Designated pursuant to section 1(a)(iv) of E.O. 13382 for being owned or controlled by, or acting or purporting to act for or on behalf of, directly or indirectly, RAYAN FAN KAV ANDISH CO, a person whose property and interests in property are blocked pursuant to E.O. 13382.

3. KAVOSHGARAN ASMAN MOJ GHADIR COMPANY (a.k.a. KAVOSHGARAN ASMAN MOJ GHADIR PRIVATE JOINT STOCK COMPANY), Unit 2, First Floor, No. 63, Sabzevar Acacia Street, Sarvestan, Eighty Meter Street, Railway Town, Central District, Tehran County, Tehran, Tehran 1494934943, Iran; Additional Sanctions Information—Subject to Secondary Sanctions; Organization Established Date 26 Sep 2016; National ID No. 14006195595 (Iran); Registration Number 498898 (Iran) [NPWMD] [IFSR] (Linked To: REZAEI, Bahram).

Designated pursuant to section 1(a)(iv) of E.O. 13382 for being owned or controlled by, or acting or purporting to act for or on behalf of, directly or indirectly, REZAEI, Bahram, a person whose property and interests in property are blocked pursuant to E.O. 13382.

Designated pursuant to section 1(a)(iv) of E.O. 13382 for being owned or controlled by, or acting or purporting to act for or on behalf of, directly or indirectly, ROSTAMI SANI, Mostafa, a person whose property and interests in property are blocked pursuant to E.O. 13382.

(Authority: E.O. 13382; E.O. 13949.)

Bradley T. Smith,
Director, Office of Foreign Assets Control.

[FR Doc. 2025-24219 Filed 12-31-25; 8:45 am]

BILLING CODE 4810-AL-P